DEPARTMENT OF ENERGY

Federal Energy Regulatory Commission

[Docket No. RP96-389-057]

Columbia Gulf Transmission Company; Notice of Compliance Filing

July 18, 2002.

Take notice that on July 15, 2002, Columbia Gulf Transmission Company (Columbia Gulf) tendered for filing as part of its FERC Gas Tariff, Second Revised Volume No. 1, Third Revised Sheet No. 316, to become effective July 5, 2002.

Columbia Gulf states on June 7, 2002, it made a filing with the Commission seeking approval of a Rate Schedule FTS-1 negotiated rate agreement with Reliant Energy Services, Inc. in Docket No. RP96-389-054. On July 5, 2002, the Commission issued an order on the filing, approving the service agreement effective November 1, 2002, and directing Columbia Gulf to file a tariff sheet identifying the agreement as a non-conforming agreement in compliance with Section 154.112(b) of the Commission's regulations. The instant filing is being made to comply with Section 154.112(b) and reference the non-conforming service agreement in its Volume No. 1 tariff.

Columbia Gulf states that copies of its filing has been mailed to each of the parties listed on the service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18683 Filed 7-23-02; 8:45 am]

BILLING CODE 6717-01-P